DEPARTMENT OF JUSTICE

Antitrust Division

Notice Pursuant to the National Cooperative Research and Production Act of 1993—Financial Services Technology Consortium, Inc.: Financial Agent Secure Transaction (FAST) Project

Notice is hereby given that, on June 28, 2000, pursuant to Section 6(a) of the National Cooperative Research and Production Act of 1993, 15 U.S.C. 4301 et seq. (“the Act”), Financial Services Technology Consortium, Inc.: Financial Agent Secure Transaction (FAST) Project has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to section 6(b) of the Act, the identities of the parties are American Bankers Association, Washington, DC; BAI, Chicago, IL; Bank of America, Richmond, VA; Certicom Corp., Hayward, CA; Chase Manhattan Bank, Hicksville, NY; Citibank N.A., New York, NY; Experian, Orange, CA; Federal Reserve Bank of Boston, Boston, MA; First Union National Bank, Charlotte, NC; Hewlett-Packard Company, Cambridge, MA; Huntington National Bank, Columbus, OH; NACHA, Herndon, VA; National Center for Manufacturing Sciences, Inc., Ann Arbor, MI; National Institute of Standards and Technology, Gaithersburg, MD; Star Systems, Inc., Reston, VA; Unisys Corporation, Burlington, MA; and Wells Fargo Services & Company, Minneapolis, MN.

The nature and objectives of the venture are research and development activities concerning an economically viable architecture/framework/protocol for entities, unknown to each other and possessing no common authentication mechanism, to securely conduct transactions over the Internet by leveraging the relationship each has with its respective financial institution, electronic commerce and other on-line business and personal financial transactions.

Constance K. Robinson,
Director of Operations Antitrust Division.

[FR Doc. 01-18083 Filed 7-18-01; 8:45 am]

BILLING CODE 4410-11-M